DEPARTMENT OF ENERGY

Federal Energy Regulatory Commission

[Docket Nos. EL19-53-000; QF19-855-001]

Golden Valley Electric Association, Inc., Eco Green Generation LLC; Notice of Petition for Declaratory Order

Take notice that on March 5, 2019, pursuant to Rule 207 of the Federal Energy Regulatory Commission's (Commission) Rules of Practice and Procedure, 18 CFR 385.207 (2018), Golden Valley Electric Association, Inc. (GVEA) and Eco Green Generation LLC (EGG) (Jointly Petitioners), filed a petition for a declaratory order seeking to challenge the status of a self-certified Qualifying Facility (QF). GVEA is asking the Commission to find that the 147.8 MW hybrid power project proposed by EGG in its Form 556 filed in Docket QF19-855-000 is not a QF as defined by section 210 of the Public Utility Regulatory Policies Act of 1978, as amended, and 18 CFR 292.201 et seq., as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioners.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5 p.m. Eastern time on April 4, 2019.

Dated: March 7, 2019.
Kimberly D. Bose,
Secretary.

[FR Doc. 2019-04674 Filed 3-13-19; 8:45 am]

BILLING CODE 6717-01-P